Title 3—

The President

Proclamation 8120 of April 5, 2007

Pan American Day and Pan American Week, 2007

By the President of the United States of America

A Proclamation

Each year on Pan American Day and during Pan American Week, we underscore our commitment to supporting the citizens in the Pan American community, strengthening democracy in the Western Hemisphere, and advancing the cause of peace worldwide.

In 1890, the International Union of American Republics was established to promote cooperation among the Americas. Today, the United States and our neighbors in the Western Hemisphere are a community linked by common values, shared interests, and the close bonds of family and friendship. As the expansion of freedom continues in our region, the democratic nations of the Western Hemisphere are working together to build a safer and more prosperous society and to ensure that all the people of the Americas have the opportunity to achieve their dreams.

My Administration is working to advance the cause of social justice in the Pan American region, and we are committed to supporting our neighbors' efforts to meet the needs of their citizens. In 2004, we created the Millennium Challenge Corporation to provide increased aid to nations that govern justly, invest in the education and health of their people, and promote economic freedom. We are working with the citizens of the Pan American community to expand economic opportunity through debt relief and to encourage reforms through such mechanisms as the North America Free Trade Agreement, the Chile Free Trade Agreement, and the Dominican Republic-Central America-United States Free Trade Agreement. These agreements facilitate the flow of trade and help establish market economies. We have also recently notified the Congress of our intention to enter into a free trade agreement with Panama and signed free trade agreements with Peru and Colombia. These agreements will generate export opportunities for the United States and benefit the people of Panama, Peru, and Colombia by providing economic opportunity and helping to strengthen democratic institutions. By working with our democratic neighbors to build strong and vibrant economies, we are helping the citizens of the Western Hemisphere realize the promise of a free and just society.

The ties between the democratic nations of the Western Hemisphere are deep and lasting, and together we can continue our great strides toward freedom and prosperity for people everywhere.

NOW, THEREFORE, I, GEORGE W. BUSH, President of the United States of America, by virtue of the authority vested in me by the Constitution and laws of the United States, do hereby proclaim April 14, 2007, as Pan American Day and April 8 through April 14, 2007, as Pan American Week. I urge the Governors of the 50 States, the Governor of the Commonwealth of Puerto Rico, and the officials of other areas under the flag of the United States of America to honor these observances with appropriate ceremonies and activities.

IN WITNESS WHEREOF, I have hereunto set my hand this fifth day of April, in the year of our Lord two thousand seven, and of the Independence of the United States of America the two hundred and thirty-first.

[FR Doc. 07-1775

Filed 4-6-07; 8:47 am]

Billing code 3195-01-P